DEPARTMENT OF VETERANS AFFAIRS

VA High Risk List Action Plan, Managing Risks, and Improving VA Health Care

AGENCY: Department of Veterans Affairs.

ACTION: Notice.

SUMMARY: Notice is given that the Department of Veteran Affairs (VA) High Risk List Action Plan—Managing Risks and Improving VA Health Care report to the U.S. Government Accountability Office (GAO) is available for public review at https://www.va.gov/performance/. The March 2020 document is VA's action plan for addressing the five broad management issues described by the GAO in its 2015 High Risk Series Update, which include: policy and processes, oversight and accountability, information technology (IT), adequate training, and resource allocation.

FOR FURTHER INFORMATION CONTACT: Karen Rasmussen, M.D., Director for GAO-OIG Accountability Liaison at (202) 461-6643 or VHA10BGOALGAOHRL@va.gov.

SUPPLEMENTARY INFORMATION: VA's commitment to addressing the management functions GAO highlighted in its report will ensure large initiatives are reinforced by sound policy; are implemented by staff with the right knowledge, skills, and abilities; receive the right IT support; identify and secure essential human and financial resources; have management oversight; and are accountable throughout planning, implementation, and reinforcement. To that end, VA's 2020 plan includes over 250 actions underway and other measures to monitor progress toward achieving the outcomes described in Chapter 2. The plan also identifies key transformational initiatives from the Veterans Health Administration's Plan for Modernization that complement or contribute to resolution of the areas of concern (Chapter 1).

Signing Authority

The Secretary of Veterans Affairs, or designee, approved this document and authorized the undersigned to sign and submit the document to the Office of the Federal Register for publication electronically as an official document of the Department of Veterans Affairs. Brooks D. Tucker, Assistant Secretary for Congressional and Legislative Affairs, Performing the Delegable Duties of the Chief of Staff, Department of Veterans Affairs, approved this document on December 14, 2020, for publication.

Jeffrey M. Martin,
Assistant Director, Office of Regulation Policy & Management, Office of the Secretary, Department of Veterans Affairs.

[FR Doc. 2020-27939 Filed 12-17-20; 8:45 am]

BILLING CODE 8320-01-P